DEPARTMENT OF HOMELAND SECURITY

Coast Guard

33 CFR Part 110

[Docket Number USCG-2012-0806]

RIN 1625-AA01

Anchorage Regulations; Connecticut River, Old Saybrook, CT

AGENCY: Coast Guard, DHS.

ACTION: Final rule.

SUMMARY: The Coast Guard is establishing three special anchorage areas in the Connecticut River in the vicinity Old Saybrook, CT. This action is necessary to facilitate safe navigation in that area and provide safe and secure anchorages for vessels less than 20 meters in length. This action is intended to increase the safety of life and property in the Connecticut River in the vicinity of Old Saybrook, improve the safety of anchored vessels, and provide for the overall safe and efficient flow of vessel traffic and commerce.

DATES: This rule is effective April 11, 2016.

ADDRESSES: To view documents mentioned in this preamble as being available in the docket, go to http://www.regulations.gov, type USCG-2012-0806 in the “SEARCH” box and click “SEARCH.” Click on Open Docket Folder on the line associated with this rule.

FOR FURTHER INFORMATION CONTACT: If you have questions on this rule, call or email Mr. Craig Lapiejko, Waterways Management at Coast Guard First District, telephone 617-223-8351, email craig.d.lapiejko@uscg.mil or Chief Petty Officer Ian Fallon, Waterways Management Division at Coast Guard Sector Long Island Sound, telephone 203-468-4565, email ian.m.fallon@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

On February 28, 2012, the Old Saybrook Harbor Management Commission sent a request to the Coast Guard to permanently establish new special anchorages on the Connecticut River. In response, on November 25, 2015, the Coast Guard published a NPRM titled, Anchorage Regulations; Connecticut River, Old Saybrook, CT (80 FR 73689). There we stated why we issued the NPRM, and invited comments on our proposed regulatory action related to these anchorage areas. During the comment period that ended December 28, 2015, we received no comments.

III. Legal Authority and Need for Rule

The Coast Guard is issuing this rule under authority in 33 U.S.C. 471, 1221 through 1236, 2071; 33 CFR 1.05-1; and Department of Homeland Security Delegation No. 0170.1. The purpose of this rule is reduce the risk of vessel collisions and to promote safe and efficient travel in the navigable channels of the Connecticut River adjacent to Calves Island, and also to aid the town of Old Saybrook in enforcing its mooring and boating regulations by clearly defining the mooring fields currently established by the town.

IV. Discussion of Comments, Changes, and the Rule

As noted above, we received no comments on our NPRM published November 25, 2015. There are no changes in the regulatory text of this rule from the proposed rule in the NPRM.

This rule establishes three new special anchorage areas, referred to as special anchorage areas A, B, and C in the Connecticut River in the vicinity of the Old Saybrook, CT. Special anchorage area A is approximately 680,800 sq. yards and is located between Ferry Point and Calves Island, upstream of the I-95/US RT 1 Baldwin Bridge. Special anchorage area B is approximately 51,200 sq. yards and located just east of North Cove. Special anchorage area C is approximately 185,400 sq. yards located in North Cove west of the navigable channel. Illustrations showing the locations of these special anchorage areas are available in the docket.

Vessels less than 20 meters in length are not required to sound signals under Rule 35 of the Inland Navigation Rules (33 CFR 83.35) nor exhibit anchor lights or shapes under Rule 30 of the Inland Navigation Rules (33 CFR 83.30) when at anchor in a special anchorage area. Additionally, mariners using these anchorage areas are encouraged to contact local and state authorities, such as the local harbormaster, to ensure compliance with any additional applicable state and local laws. Such laws may involve, for example, compliance with direction from the local harbormaster when placing or using moorings within the anchorage.

V. Regulatory Analyses

We developed this rule after considering numerous statutes and Executive orders related to rulemaking. Below we summarize our analyses based on a number of these statutes and Executive orders, and we discuss First Amendment rights of protestors.

A. Regulatory Planning and Review

Executive orders 12866 and 13563 direct agencies to assess the costs and benefits of available regulatory alternatives and, if regulation is necessary, to select regulatory approaches that maximize net benefits. Executive order 13563 emphasizes the importance of quantifying both costs and benefits, of reducing costs, of harmonizing rules, and of promoting flexibility. This rule has not been designated a “significant regulatory action,” under Executive order 12866. Accordingly, it has not been reviewed by the Office of Management and Budget.

We expect minimal additional cost impacts on fishing, or recreational boats anchoring because this rule would not affect normal surface navigation. Although this regulation may have some impact on the public, the potential impact will be minimized for the following reasons: (1) Normal surface navigation will not be affected, as these three areas in the Connecticut River in the vicinity of the eastern portion of Old Saybrook have been historically used as a mooring field by the town of Old Saybrook; (2) this rule would simply permit eligible vessels, in the existing mooring areas, to not use sound signals or exhibit anchor lights or shapes when at anchor; (3) it encourages the use of these special anchorage areas; and (4) the number of vessels using these special anchorage areas is limited due to water depth (less than or equal to 18 feet).

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the Connecticut River in Old Saybrook, CT may be small entities, for the reasons stated above in section V.A, this rule would not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive order 13132, Federalism, if it has a substantial direct effect on the States, on the relationship between the national government and the States, or on the distribution of power and responsibilities among the various levels of government. We have analyzed this rule under that Order and have determined that it is consistent with the fundamental federalism principles and preemption requirements described in Executive order 13132.

Also, this rule does not have tribal implications under Executive order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01 and Commandant Instruction M16475.lD, which guide the Coast Guard in complying with the National Environmental Policy Act of 1969 (42 U.S.C. 4321-4370f), and have determined that this action is one of a category of actions that do not individually or cumulatively have a significant effect on the human environment. This rule involves the establishment of special anchorage grounds. It is categorically excluded from further review under paragraph 34(f) of Figure 2-1 of Commandant Instruction M16475.lD. An environmental analysis checklist supporting this determination and a Categorical Exclusion Determination are available in the docket where indicated under ADDRESSES. We seek any comments or information that may lead to the discovery of a significant environmental impact from this rule.

List of Subjects in 33 CFR Part 110

Anchorage grounds.

For the reasons discussed in the preamble, the Coast Guard amends 33 CFR part 110 as follows:

PART 110—ANCHORAGE REGULATIONS

1. The authority citation for part 110 continues to read as follows:

Authority: 33 U.S.C. 471; 1221 through 1236, 2071; 33 CFR 1.05-1; Department of Homeland Security Delegation No. 0170.1.

2. Add § 110.55b to subpart A to read as follows:

§ 110.55b Connecticut River, Old Saybrook, Connecticut.

(a) Special anchorage area A. All of the waters enclosed by a line beginning at latitude 41°19′54.75″ N., longitude 072°21′08.40″ W.; thence to latitude 41°19′21.50″ N., longitude 072°20′49.65″ W.; thence to latitude 41°19′17.80″ N., longitude 072°20′49.25″ W.; thence to latitude 41°19′17.05″ N., longitude 72°20′59″ W.; thence to latitude 41°19′25.40″ N., longitude 72°21′00.95″ W.; thence to latitude 41°19′29.50″ N., longitude 72°21′17.60″ W.; thence to latitude 41°19′35.40″ N., longitude 72°21′22.90″ W.; thence to latitude 41°19′52.35″ N., longitude 72°21′26.10″ W.; thence to the point of beginning.

(b) Special anchorage area B. All of the waters enclosed by a line beginning at latitude 41°17′26″ N., longitude 072°21′04″ W.; thence to latitude 41°17′24.60″ N., longitude 072°21′16″ W.; thence to latitude 41°17′20″ N., longitude 072°21′09″ W.; thence to latitude 41°17′16″ N., longitude 072°21′05″ W.; thence to latitude 41°17′16″ N., longitude 072°21′03″ W.; thence to latitude 41°17′21.5″ N., longitude 072°21′04.5″ W.; thence to the point of beginning.

(c) Special anchorage area C. All of the waters enclosed by a line beginning at latitude 41°17′27″ N., longitude 072°21′35″ W.; thence to latitude 41°17′24″ N., longitude 072°22′01″ W.; thence to latitude 41°17′16″ N., longitude 072°22′00″ W.; thence to latitude 41°17′19″ N., longitude 072°21′33″ W.; thence to the point of beginning.

Note to § 110.55b: All coordinates referenced use datum NAD 83. All anchoring in the areas is under the supervision of the town of Old Saybrook Harbor Master or other such authority as may be designated by the authorities of the town of Old Saybrook, Connecticut. Mariners using these special anchorage areas are encouraged to contact local and state authorities, such as the local harbormaster, to ensure compliance with any additional applicable state and local laws. This area is principally for use by recreational craft. Temporary floats or buoys for marking anchors or moorings in place are allowed in this area. Fixed mooring piles or stakes are not allowed. All moorings or anchors shall be placed well within the anchorage areas so that no portion of the hull or rigging will at any time extend outside of the anchorage.

Dated: February 26, 2016.
L.L. Fagan,
Rear Admiral, U.S. Coast Guard, Commander, First Coast Guard District.

[FR Doc. 2016-05561 Filed 3-10-16; 8:45 am]

BILLING CODE 9110-04-P